DEPARTMENT OF TRANSPORTATION

Federal Highway Administration

Notice of Final Agency Actions on Proposed I-20/26/126 Carolina Crossroads Corridor Project in South Carolina

AGENCY: Federal Highway Administration (FHWA), DOT.

ACTION: Notice of limitation on claims for judicial review of actions by FHWA and other Federal agencies.

SUMMARY: This notice announces actions taken by FHWA and other Federal Agencies that are final. The actions relate to the I-20/26/126 Carolina Crossroads Corridor Project, located in Lexington and Richland Counties, South Carolina. This action grants FHWA approval of the project.

DATES: By this notice, FHWA is advising the public of a final agency action subject to 23 U.S.C. 139(l)(1). A claim seeking review of the Federal agency action on the highway project will be barred unless the claim is filed on or before October 28, 2019. If the Federal law that authorizes judicial review of a claim provides a time period of less than 150 days for filing such claim, then that shorter time period still applies.

FOR FURTHER INFORMATION CONTACT: For FHWA: Emily O. Lawton, Division Administrator, Federal Highway Administration, Strom Thurmond Federal Building, 1835 Assembly Street, Suite 1270, Columbia, South Carolina 29201, Telephone: (803) 765-5411, Email: Emily.lawton@dot.gov. The FHWA South Carolina Division's Office normal business hours are 8:00 a.m. to 4:30 p.m. (Eastern Time), Monday through Friday, except federal holidays. For South Carolina Department of Transportation (SCDOT): Chad C. Long, Director of Environmental Services, South Carolina Department of Transportation, 955 Park Street, Columbia, South Carolina, 29201, Telephone: (803) 737-2314, Email: Longcc@scdot.org. The SCDOT's normal business hours are 8:00 a.m. to 4:30 p.m. (Eastern Time), except South Carolina state holidays.

SUPPLEMENTARY INFORMATION: Notice is hereby given that FHWA and other Federal agencies have taken final agency actions by issuing a Record of Decision (ROD) for the I-20/26/126 Carolina Crossroads Corridor Project in Richland and Lexington Counties, South Carolina. The Carolina Crossroads project would reconstruct the I-20/26 interchange, the I-26/126 interchange, and service interchanges in the project study area on I-20, I-26, and I-126. In addition, an additional travel lane would be added in each direction on I-26 from the Broad River Road interchange to just past the I-126 interchange. The project would improve mobility and enhance traffic operations by reducing existing traffic congestion within the I-20/26/126 corridor while accommodating future traffic needs. The actions by the Federal agencies, and the laws under which such actions were taken, are described in the Combined Final Environmental Impact Statement (FEIS)/Record of Decision (ROD) for the project, approved on May 2, 2019, and in other documents in the project records. The Combined FEIS/ROD and other documents in the project file are available by contacting the FHWA or SCDOT at the addresses above. The Combined FEIS/ROD along with referenced technical documents can also be viewed and downloaded from the project website at http://www.scdotcarolinacrossroads.com/ or viewed as the SCDOT Headquarters at 955 Park Street, Columbia, SC 29201.

The actions by the Federal agencies, and the laws under which such actions were taken, are described in the Record of Decision (ROD) for the project and in other documents in the project file. The ROD and other documents in the project file are available by contacting FHWA or SCDOT at the addresses provided above. This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Land and Water Conservation Fund (LWCF) Act [16 U.S.C. 4601-4604].

4. Wildlife: Endangered Species Act [16 U.S.C. 1531-1544 and Section 1536]; Fish and Wildlife Coordination Act [16 U.S.C. 661-667(d)]; Migratory Bird Treaty Act [16 U.S.C. 703-712]; Magnuson-Stevenson Fishery Conservation and Management Act of 1976, as amended [16 U.S.C. 1801 et seq.]; Bald and Golden Eagle Protection Act [16 U.S.C. 668-668d].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; Farmland Protection Policy Act (FPPA) [7 U.S.C. 4201-4209]; Uniform Relocation Assistance and Real Property Acquisition Act [42 U.S.C. 61]; American Indian Religious Freedom Act [42 U.S.C. 1996].

7. Noise: 23 U.S.C. 109(i) (Pub. L. 91-605), (Pub. L. 93-87).

8. Wetlands and Water Resources: Clean Water Act [33 U.S.C. 1251-1377 (Section 404, Section 402, Section 401, Section 319)]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; Flood Disaster Protection Act [42 U.S.C. 4001-4128].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species; E.O. 13166 Improving Access to Services for Persons with Limited English Proficiency; E.O. 13186 Responsibilities of Federal Agencies to Protect Migratory Birds.

(Catalog of Federal Domestic Assistance Program Number 20.205, Highway Planning and Construction. The regulations implementing Executive Order 12372 regarding intergovernmental consultation on Federal programs and activities apply to this program.)

Authority: 23 U.S.C. 139(l)(1).

Issued on: May 20, 2019.
Emily O. Lawton,
Division Administrator, Columbia, South Carolina.

[FR Doc. 2019-11076 Filed 5-28-19; 8:45 am]

BILLING CODE 4910-22-P